DEPARTMENT OF THE INTERIOR

Fish and Wildlife Service

Notice of Availability of the Draft Environmental Assessment and Land Protection Plan for the Proposed Establishment of Green River National Wildlife Refuge, Henderson County, KY

AGENCY: Fish and Wildlife Service, Department of the Interior.

ACTION: Notice of availability of the Draft Environmental Assessment and Land Protection Plan for the proposed establishment of Green River National Wildlife Refuge.

SUMMARY: This notice advises the public that the U.S. Fish and Wildlife Service, Southeast Region, proposes to establish a new national wildlife refuge in the Scuffletown Bottoms area in Henderson County, Kentucky. The purpose of the proposed refuge is to protect, restore and manage a valuable complex of wetland habitats for the benefit of migrating and wintering waterfowl, non-game land birds, and other native fish and wildlife. A Draft Environmental Assessment and Land Protection Plan for the establishment of the proposed refuge has been prepared by Service biologists in coordination with the Kentucky Department of Fish and Wildlife Resources. The assessment considers the biological, environmental, and socioeconomic effects of establishing the refute and evaluates three alternative actions and their potential impacts on the environment. Written comments or recommendations concerning the proposal are welcomed and should be sent to the address given below.

DATES: Land acquisition planning for the project is currently underway. The draft environmental assessment and land protection plan will be available to the public for review and comment on January 22, 2001. Written comments must be received no later than March 9, 2001, in order to be considered for the preparation of the final environmental assessment.

ADDRESSES: If you wish to comment, you may submit your comments by any of several methods. You may mail your comments to Mr. Charles R. Danner, Team Leader, Planning and Support Team, U.S. Fish and Wildlife Service, 1875 Century Boulevard, Atlanta, Georgia 30345. You may hand-deliver your comments to Mr. Danner at the same address. Or you may submit your comments by telephone at 1-800-419-9582. Our practice is to make comments, including names and home addresses of respondents, available for public review during regular business hours. Individual respondents may request that we withhold their home address from the record, which we will honor to the extent allowable by law. There also may be circumstances in which we would withhold from the record a respondent's identity, as allowable by law. if you wish us to withhold your name and/or address, you must state this prominently at the beginning of your comment. However, we will not consider anonymous comments. We will make all submissions from organizations or businesses, and from individuals identifying themselves as representatives or officials of organizations and businesses, available for public inspection in their entirety.

SUPPLEMENTARY INFORMATION: The proposal would establish a national wildlife refuge on up to 23,000 acres of wetlands and bottomland hardwoods along the confluence of the Green and Ohio Rivers in Henderson County, Kentucky. The Service is proposing to establish the refuge through a combination of fee title purchases from willing sellers and leases, conservation easements, or cooperative agreements from willing landowners.

The goals of the proposed refuge would be to provide (1) Habitat for migrating and wintering waterfowl, (2) habitat for non-game land birds, (3) habitats for a natural diversity of fish and wildlife, (4) nesting habitat for wood ducks and other locally nesting migratory waterfowl, (5) quality hunting and sportfishing opportunities, and (6) opportunities for environmental education, interpretation, and wildlife-oriented recreation.

Dated: January 5, 2001.
Sam D. Hamilton,
Regional Director.

[FR Doc. 01-1441 Filed 1-17-01; 8:45 am]

BILLING CODE 4310-55-M